DEPARTMENT OF COMMERCE

International Trade Administration

[A-580-807]

Notice of Final Results of Antidumping Duty Changed Circumstances Review: Polyethylene Terephthalate Film, Sheet, and Strip From the Republic of Korea

AGENCY: Import Administration, International Trade Administration, Department of Commerce.

SUMMARY: The Department of Commerce (the Department) has determined that Toray Advanced Materials Korea, Inc. (Toray Advanced Materials) is the successor-in-interest to Toray Saehan, Inc. (Toray Saehan). As a result, Toray Advanced Materials will be accorded the same treatment previously accorded Toray Saehan with regard to the antidumping duty order on polyethylene terephthalate film, sheet, and strip (PET film) from Korea, effective as of the date of publication of this notice in the Federal Register.

DATES: Effective Date: August 15, 2011.

FOR FURTHER INFORMATION CONTACT: Mark Flessner or Robert James, AD/CVD Operations, Office 7, Import Administration, International Trade Administration, U.S. Department of Commerce, 14th Street and Constitution Avenue, NW., Room 7866, Washington, DC 20230; telephone: (202) 482-6312 or (202) 482-0649, respectively.

Background

The Department published an antidumping duty order on PET film from Korea on June 5, 1991. See Antidumping Duty Order and Amendment to Final Determination of Sales at Less Than Fair Value: Polyethylene Terephthalate Film, Sheet, and Strip From the Republic of Korea, 56 FR 25669 (June 5, 1991). On September 26, 1997, the Department published the notice of final court decision and amended final determination on PET film from Korea. See Polyethylene Terephthalate Film, Sheet, and Strip From the Republic of Korea; Notice of Final Court Decision and Amended Final Determination of Antidumping Duty Investigation, 62 FR 50557 (September 26, 1997) (Antidumping Duty Investigation Amended Final). Based on the Department's redetermination on remand in Antidumping Duty Investigation Amended Final, Cheil Synthetics, Inc. (Cheil) was found to have been dumping at a margin of 36.33 percent.

On July 5, 1996, the Department revoked the antidumping duty order on PET film from Korea with respect to Cheil because Cheil had not sold the subject merchandise at LTFV for at least three consecutive periods of review. See Polyethylene Terephthalate Film Sheet and Strip From the Republic of Korea; Final Results of Antidumping Duty Administrative Reviews and Notice of Revocation in Part, 61 FR 35177 (July 5, 1996). Subsequently, prior to the first sunset review, the Department published the final results of a changed circumstances review in which it found that Saehan Industries, Inc. (Saehan) was the successor-in-interest to Cheil. See Polyethylene Terephthalate Film, Sheet and Strip From the Republic of Korea; Final Results of Changed Circumstances Antidumping Duty Administrative Review, 63 FR 3703 (January 26, 1998).

The Department conducted another changed circumstances review in May 2000 in which it determined that Toray Saehan was the successor-in-interest to Saehan (which, as explained above, was the successor-in-interest to Cheil). See Polyethylene Terephthalate Film, Sheet and Strip From the Republic of Korea, Final Results of Changed Circumstances Antidumping Duty Administrative Review, 65 FR 34661 (May 31, 2000).

On December 21, 2010, Toray Advanced Materials filed a request for a changed circumstances review of the antidumping duty order on PET film from Korea. Toray Advanced Materials claimed it is the successor-in-interest to Toray Saehan in accordance with section 751(b) of the Tariff Act of 1930, as amended (the Act), and 19 CFR 351.216, and provided documentation supporting its assertion.

On May 10, 2011, the Department published its initiation and preliminary results of changed circumstances review of the antidumping duty order on PET film from Korea. See Polyethylene Terephthalate Film, Sheet, and Strip From the Republic of Korea: Initiation and Preliminary Results of Antidumping Duty Changed Circumstances Review, 76 FR 27005 (May 10, 2011) (Preliminary Results). The Department preliminarily determined that Toray Advanced Materials is the successor-in-interest to Toray Saehan and should be treated as such for purposes of the antidumping duty order. In the Preliminary Results, we stated that interested parties could submit case briefs to the Department no later than 15 days after the publication of the Preliminary Results in the Federal Register, and submit rebuttal briefs, limited to the issues raised in those case briefs, five days subsequent to the case briefs' due date. No party submitted case briefs or other comments on the Preliminary Results.

Scope of the Order

Imports covered by the order are shipments of all gauges of raw, pretreated, or primed polyethylene terephthalate film, sheet, and strip, whether extruded or coextruded. The films excluded from this review are metallized films and other finished films that have had at least one of their surfaces modified by the application of a performance-enhancing resinous or inorganic layer more than 0.00001 inches (0.254 micrometers) thick.

Polyethylene terephthalate film, sheet, and strip is currently classifiable under the Harmonized Tariff Schedule of the United States (HTSUS) subheading 3920.62.00. The HTSUS subheading is provided for convenience and for customs purposes. The written description of the scope of the order remains dispositive.

Final Results of Changed Circumstances Review

Based on the information provided by Toray Advanced Materials, the Department's analysis in the Preliminary Results (which we incorporate herein by reference), and in light of the fact that interested parties did not submit any comments during the comment period, the Department hereby determines that Toray Advanced Materials is the successor-in-interest to Toray Saehan and is entitled to Toray Saehan's treatment under the order (i.e., Toray Advanced Materials will inherit Toray Saehan's revocation from the order).

Instructions to U.S. Customs and Border Protection

The Department will instruct U.S. Customs and Border Protection to liquidate entries of merchandise produced or exported by Toray Advanced Materials without regard to antidumping duties, as Toray Advanced Materials' predecessor, Toray Saehan, is revoked from the order.

Notification

This notice also serves as a reminder to parties subject to administrative protective orders (APOs) of their responsibility concerning the disposition of proprietary information disclosed under APO in accordance with 19 CFR 351.306. Timely written notification of the return/destruction of APO materials or conversion to judicial protective order is hereby requested. Failure to comply with the regulations and terms of an APO is a sanctionable violation.

This notice is in accordance with sections 751(b) and 777(i)(1) and (2) of the Act and 19 CFR 351.216(e).

Dated: August 5, 2011.
Ronald K. Lorentzen,
Deputy Assistant Secretary for Import Administration.

[FR Doc. 2011-20681 Filed 8-12-11; 8:45 am]

BILLING CODE 3510-DS-P